DEPARTMENT OF ENERGY

Federal Energy Regulatory Commission

Combined Notice of Filings, #1

October 21, 2008.

Take notice that the Commission received the following electric corporate filings:

Docket Numbers: EC09-7-000.

Applicants: Bank of America Corporation, Bank of America, N.A., Merrill Lynch & Co., Inc., Merrill Lynch Commodities, Inc.

Description: Application of Bank of America Corp, Bank of America, N.A. et al. for authorization to sell securities and request for expedited treatment.

Filed Date: 10/17/2008.

Accession Number: 20081020-0219.

Comment Date: 5 p.m. Eastern Time on Friday, November 7, 2008.

Take notice that the Commission received the following electric rate filings:

Docket Numbers: ER96-1361-013; ER99-2781-011; ER98-4138-009; ER00-1770-019; ER02-453-010; ER98-3096-015; ER07-903-002; ER05-1054-003; ER01-202-008; ER04-472-007.

Applicants: Atlantic City Electric Company, Delmarva Power & Light Company, Potomac Electric Power Company, Conectiv Energy Supply, Inc., Conectiv Atlantic Generation, LLC, Conectiv Delmarva Generation, LLC, Conectiv Bethlehem LLC, Pepco Energy Services, Inc., Bethlehem Renewable Energy, LLC, Eastern Landfill Gas, LLC, Potomac Power Resources, LLC, Fauquier Landfill Gas, LLC.

Description: Atlantic City Electric Co et al. amends the Market Based Rate Tariffs submitted with their 4/8/08 filing and amends Appendix B-2 to the Revised Updated Market Power Study to conform to Order 697-A etc.

Filed Date: 10/14/2008.

Accession Number: 20081016-0217.

Comment Date: 5 p.m. Eastern Time on Tuesday, November 4, 2008.

Docket Numbers: ER99-2156-016; ER96-719-023; ER97-2801-024; ER07-1236-003.

Applicants: Cordova Energy Company LLC, MidAmerican Energy Company, PacifiCorp, Yuma Cogeneration Associates.

Description: Cordova Energy Co LLC et al. submits a notice of change in status.

Filed Date: 10/15/2008.

Accession Number: 20081017-0001.

Comment Date: 5 p.m. Eastern Time on Wednesday, November 5, 2008.

Docket Numbers: ER06-1291-002; ER07-565-001; ER07-566-001; ER07-412-002.

Applicants: MT. Tom Generating Company LLC, FirstLight Hydro Generating Company, FirstLight Power Resources Management, LLC, ECP Energy I, LLC.

Description: Mt Tom Generation Co, LLC et al. (FirstLight Sellers) submits revised market-based rate tariff to replace the tariffs that were filed on 6/30/08 in connection with their Order 697 Updated Market Power Analysis.

Filed Date: 10/14/2008.

Accession Number: 20081016-0218.

Comment Date: 5 p.m. Eastern Time on Tuesday, November 4, 2008.

Docket Numbers: ER07-521-005.

Applicants: New York Independent System Operator, Inc.

Description: New York Independent System Operator, Inc submits compliance filing in response to FERC's 4/16/08 Order.

Filed Date: 10/16/2008.

Accession Number: 20081017-0102.

Comment Date: 5 p.m. Eastern Time on Thursday, November 6, 2008.

Docket Numbers: ER08-931-002.

Applicants: Walnut Creek Energy, LLC.

Description: Walnut Creek Energy, LLC submits Original Sheet 1 et al. to FERC Electric Tariff, First Revised Volume 1 to specify that Walnut Creek is a Category 2 seller etc.

Filed Date: 10/15/2008.

Accession Number: 20081017-0041.

Comment Date: 5 p.m. Eastern Time on Wednesday, November 5, 2008.

Docket Numbers: ER08-1333-001.

Applicants: Invenergy Cannon Falls LLC.

Description: Invenergy Cannon Falls, LLC submits supplemental testimony of Kris Zadlo providing information requested in FERC's 9/26/08 deficiency letter and amends its 7/31/08 filing to include additional information.

Filed Date: 10/15/2008.

Accession Number: 20081017-0049.

Comment Date: 5 p.m. Eastern Time on Wednesday, November 5, 2008.

Docket Numbers: ER08-1396-001.

Applicants: Westar Energy, Inc.

Description: Westar Energy submits a compliance filing of the Alternate Pro Forma Sheet 30 to their pro forma Formula Rate Agreement for Full Requirements Electric Service with the City of Wathena, KS.

Filed Date: 10/15/2008.

Accession Number: 20081021-0225.

Comment Date: 5 p.m. Eastern Time on Wednesday, November 5, 2008.

Docket Numbers: ER08-1405-001.

Applicants: Midwest Independent Transmission System Operator, Inc.

Description: Midwest Independent Transmission System Operator, Inc submits an amendment to its 8/14/08 filing of proposed revisions to its Open Access Transmission, Energy & Operating Reserve Markets Tariff.

Filed Date: 10/17/2008.

Accession Number: 20081020-0227.

Comment Date: 5 p.m. Eastern Time on Friday, November 7, 2008.

Docket Numbers: ER08-1455-001.

Applicants: Northeast Utilities Service Company.

Description: Northeast Utilities Service Co et al. submits a Substitute Original Service Agreement IA-NU-13 between Connecticut Light and Power Company and Watertown Renewable Power, LLC.

Filed Date: 10/17/2008.

Accession Number: 20081020-0226.

Comment Date: 5 p.m. Eastern Time on Friday, November 7, 2008.

Docket Numbers: ER08-1520-001.

Applicants: E. ON U.S. LLC.

Description: E. ON U.S. LLC et al. submits an errata to its 9/10/08 filing of proposed revisions to the Louisville Gas and Electric Company and Kentucky Utilities Company joint Open Access Transmission Tariff.

Filed Date: 10/17/2008.

Accession Number: 20081020-0225.

Comment Date: 5 p.m. Eastern Time on Friday, November 7, 2008.

Docket Numbers: ER09-18-001.

Applicants: PJM Transmission Owners.

Description: The PJM Transmission Owners submits a Substitute First Revised Sheet 24 Superseding Original Sheet 24 to Consolidated Transmission Owners Agreement Rate Schedule FERC 42, correcting typographical errors.

Filed Date: 10/16/2008.

Accession Number: 20081017-0101.

Comment Date: 5 p.m. Eastern Time on Thursday, November 6, 2008.

Docket Numbers: ER09-54-000.

Applicants: Midwest Independent Transmission System Operator, Inc.

Description: Midwest Independent Transmission System Operator Inc submits a Large Interconnection Agreement with Wisconsin Electric Power Company.

Filed Date: 10/09/2008.

Accession Number: 20081010-0145.

Comment Date: 5 p.m. Eastern Time on Thursday, October 30, 2008.

Docket Numbers: ER09-68-000.

Applicants: Brookfield Energy Marketing Inc.

Description: Brookfield Energy Marketing submits a Notice of Cancellation of FERC Electric Tariff, Original Volume No. 1.

Filed Date: 10/14/2008.

Accession Number: 20081016-0051.

Comment Date: 5 p.m. Eastern Time on Tuesday, November 4, 2008.

Docket Numbers: ER09-69-000.

Applicants: Xcel Energy Services Inc.

Description: Xcel Energy Services, Inc on behalf of Public Service Company of Colorado submits the Renewable Energy Certificate Rider entered into with Black Hills/Colorado electric Utility Company, LP.

Filed Date: 10/14/2008.

Accession Number: 20081016-0052.

Comment Date: 5 p.m. Eastern Time on Tuesday, November 4, 2008.

Docket Numbers: ER09-71-000.

Applicants: Otay Mesa Energy Center, LLC.

Description: Otay Mesa Energy Center, LLC submits an application for market based rate authorization.

Filed Date: 10/17/2008.

Accession Number: 20081021-0104.

Comment Date: 5 p.m. Eastern Time on Friday, November 7, 2008.

Docket Numbers: ER09-75-000.

Applicants: Pioneer Transmission, LLC.

Description: Pioneer Transmission LLC submits a request for acceptance of a formula rate and rate incentives for its investment in a major 765 kV transmission project that it intends to build in Indiana etc.

Filed Date: 10/15/2008.

Accession Number: 20081016-0243.

Comment Date: 5 p.m. Eastern Time on Wednesday, November 5, 2008.

Docket Numbers: ER09-76-000.

Applicants: Entergy Services, Inc.

Description: Entergy Services, Inc submits an amended Interconnection and Operating Agreement between Bayou Cove Peaking Power, LLC and Entergy Gulf States Louisiana, LLC.

Filed Date: 10/15/2008.

Accession Number: 20081016-0236.

Comment Date: 5 p.m. Eastern Time on Wednesday, November 5, 2008.

Docket Numbers: ER09-77-000.

Applicants: Entergy Services, Inc.

Description: Entergy submits an amended Interconnection and Operating Agreement between Hot Spring Power Company, LLC and Entergy Arkansas, Inc.

Filed Date: 10/15/2008.

Accession Number: 20081016-0237.

Comment Date: 5 p.m. Eastern Time on Wednesday, November 5, 2008.

Docket Numbers: ER09-78-000.

Applicants: Entergy Services, Inc.

Description: Entergy submits an amended Interconnection and Operating Agreement between Acadia Power Partners, LLC and Entergy Gulf States Louisiana, L.L.C.

Filed Date: 10/15/2008.

Accession Number: 20081016-0238.

Comment Date: 5 p.m. Eastern Time on Wednesday, November 5, 2008.

Docket Numbers: ER09-79-000.

Applicants: Southwest Power Pool, Inc.

Description: Southwest Power Pool, Inc submits partially executed Meter Agent Services Agreement with Smoky Hills Wind Project II, LLC as the Market Participant and Westar Energy, Inc as the Meter Agent.

Filed Date: 10/15/2008.

Accession Number: 20081016-0240.

Comment Date: 5 p.m. Eastern Time on Thursday, November 6, 2008.

Docket Numbers: ER09-80-000.

Applicants: New York Independent System Operator, Inc, New York State Electric & Gas Corporation.

Description: New York Independent System Operator Inc et al. submits an executed amended and restated large generator interconnection agreement among the NYISO, NYSEG, and the Developer, Noble Wethersfield Windpark, LLC etc.

Filed Date: 10/15/2008.

Accession Number: 20081016-0239.

Comment Date: 5 p.m. Eastern Time on Wednesday, November 5, 2008.

Docket Numbers: ER09-82-000.

Applicants: Redbud Energy, LP.

Description: Oklahoma Gas and Electric Company on behalf of Redbud Energy, LP submits a Notice of Cancellation of Redbud's market-based rate tariff, FERC Electric Tariff, First Revised Volume 1, effective as of 6/5/08.

Filed Date: 10/16/2008.

Accession Number: 20081017-0103.

Comment Date: 5 p.m. Eastern Time on Thursday, November 6, 2008.

Docket Numbers: ER09-83-000.

Applicants: Midwest Independent Transmission System Operator, Inc.

Description: Midwest Independent Transmission System Operator, Inc. submits its Adjacent Balancing Authority Coordination Agreement with Muscatine Power and Water, which reflects emergency energy provisions found in similar agreements etc.

Filed Date: 10/16/2008.

Accession Number: 20081017-0104.

Comment Date: 5 p.m. Eastern Time on Thursday, November 6, 2008.

Docket Numbers: ER09-84-000.

Applicants: American Electric Power Service Corporation.

Description: American Electric Power Service Corporation et al. submits revisions to the Interconnection Agreement between West Penn and Mon Power and themselves, as agent for Ohio Power Company etc.

Filed Date: 10/16/2008.

Accession Number: 20081017-0105.

Comment Date: 5 p.m. Eastern Time on Thursday, November 6, 2008.

Docket Numbers: ER09-85-000.

Applicants: Midwest Independent Transmission System Operator, Inc.

Description: Midwest Independent Transmission System Operator, Inc. submits Amended and Restated Interconnection and Operating Agreement, First revised Service Agreement 1567 under FERC Electric Tariff, Third Revised Volume 1 with Uilk Wind Farm LLC et al.

Filed Date: 10/17/2008.

Accession Number: 20081020-0074.

Comment Date: 5 p.m. Eastern Time on Friday, November 7, 2008.

Docket Numbers: ER09-88-000.

Applicants: Southern Company Services, Inc.

Description: Southern Company Services, Inc. submits a proposed amendment to its market-based rate tariff.

Filed Date: 10/17/2008.

Accession Number: 20081020-0221.

Comment Date: 5 p.m. Eastern Time on Friday, November 7, 2008.

Docket Numbers: ER09-89-000.

Applicants: Southwest Power Pool, Inc.

Description: Southwest Power Pool, Inc. submits revised pages to its OATT to implement a rate change for Oklahoma Gas and Electric Company under ER09-89.

Filed Date: 10/17/2008.

Accession Number: 20081020-0228.

Comment Date: 5 p.m. Eastern Time on Friday, November 7, 2008.

Docket Numbers: ER09-90-000.

Applicants: Southwest Power Pool, Inc.

Description: Southwest Power Pool, Inc submits revised pages to its OATT to implement a rate change for Public Service Company of Oklahoma and Southwestern Electric Power Company.

Filed Date: 10/17/2008.

Accession Number: 20081020-0220.

Comment Date: 5 p.m. Eastern Time on Friday, November 7, 2008.

Take notice that the Commission received the following electric securities filings:

Docket Numbers: ES09-3-000.

Applicants: MDU Resources Group, Inc.

Description: MDU Resources Group Inc seeks authorization to issue an additional 1,918,222 shares of MDU Resources Common Stock in connection with MDU Resources' 401(ks) Retirement Plan.

Filed Date: 10/15/2008.

Accession Number: 20081017-0051.

Comment Date: 5 p.m. Eastern Time on Wednesday, November 5, 2008.

Take notice that the Commission received the following open access transmission tariff filings:

Docket Numbers: OA08-34-001.

Applicants: Public Service Company of New Mexico.

Description: Public Service Company of New Mexico submits revised Attachment K to their Open Access Transmission Tariff.

Filed Date: 10/15/2008.

Accession Number: 20081017-0043.

Comment Date: 5 p.m. Eastern Time on Wednesday, November 5, 2008.

Docket Numbers: OA08-36-001.

Applicants: Cleco Power LLC.

Description: Order No. 890 Rollover Compliance Filing.

Filed Date: 10/20/2008.

Accession Number: 20081020-5042.

Comment Date: 5 p.m. Eastern Time on Monday, November 10, 2008.

Docket Numbers: OA08-47-001; OA08-48-001.

Applicants: Tucson Electric Power Company, UNS Electric, Inc.

Description: Tucson Electric Power Company and UNS Electric, Inc. submit revised Attachment K to their respective Open Access Tariffs, and requests that tariff sheets be accepted for filing, effective 12/7/07.

Filed Date: 10/15/2008.

Accession Number: 20081017-0042.

Comment Date: 5 p.m. Eastern Time on Wednesday, November 5, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-25604 Filed 10-27-08; 8:45 am]

BILLING CODE 6717-01-P